DEPARTMENT OF THE INTERIOR

Bureau of Land Management

[WO-350-1430-ET; NMNM 25765; OR 48432]

Public Land Order No. 7490; Transfer of Jurisdiction, Melrose Air Force Range and Yakima Training Center; New Mexico and Washington

AGENCY: Bureau of Land Management.

ACTION: Public land order.

SUMMARY: This order transfers the administrative jurisdiction of 6,713.90 acres of public domain lands in New Mexico from the Secretary of the Interior, Bureau of Land Management to the Secretary of the Air Force for use as part of the Melrose Air Force Range. This order also transfers the administrative jurisdiction of 6,640.02 acres of public domain lands in Washington from the Secretary of the Interior, Bureau of Land Management to the Secretary of the Army for use as part of the Yakima Training Center. These transfers of jurisdiction are directed by sections 1002 and 1003 of the Departments of Labor, Health and Human Services, and Education, and Related Agencies Appropriations Act of 2001 (Public Law 106-554).

EFFECTIVE DATE: August 14, 2001.

FOR FURTHER INFORMATION CONTACT: Dwight Hempel, Bureau of Land Management, Lands and Realty Group (WO350), 1849 C Street, NW., Washington, DC 20240; 202-452-7778.

SUPPLEMENTARY INFORMATION: By virtue of the authority vested in the Secretary of the Interior by sections 1002 and 1003 of Public Law 106-554, it is ordered as follows:

1. Subject to valid existing rights, the administrative jurisdiction of the public domain surface estate for the lands described in section 1002(a)(2) of Public Law 106-554, is hereby transferred to the Secretary of the Air Force for use as part of the Melrose Air Force Range. The portion of the legal description “New Mexico Prime Meridian” is to be read as “New Mexico Principal Meridian.”

2. Subject to valid existing rights, the administrative jurisdiction for the public domain surface estate of the lands described in Section 1003(a)(2) of Public Law 106-554, is hereby transferred to the Secretary of the Army for use as part of the Yakima Training Center.

Dated: July 3, 2001.
Gale A. Norton,
Secretary of the Interior.

[FR Doc. 01-19941 Filed 8-8-01; 8:45 am]

BILLING CODE 4310-84-P